DEPARTMENT OF TRANSPORTATION

Federal Aviation Administration

14 CFR Part 71

[Airspace Docket No. 01-ANM-16]

Establishment of Class E Airspace; Richfield Municipal Airport, Richfield, UT

AGENCY: Federal Aviation Administration (FAA), DOT.

ACTION: Final rule; correction.

SUMMARY: This action corrects an error in the geographic coordinates of the final rule; correction that was published in the Federal Register August 12, 2003 (68 FR 47844), airspace Docket 02-ANM-16. Also, this action corrects the effective date back to September 4, 2003.

EFFECTIVE DATE: 0900 UTC, September 4, 2003

FOR FURTHER INFORMATION CONTACT: Ed Haeseker, Federal Aviation Administration, ANM-520.7, 1601 Lind Avenue SW., Renton, Washington 98055-4056, telephone (425) 227-2527; FAA Docket No. 01-ANM-16.

SUPPLEMENTARY INFORMATION:

The Rule

Airspace Docket No. 02-ANM-16, published August 12, 2003 (68 FR 47844), corrected an error in the coordinates of the east boundary description of the Class E airspace at Richfield Municipal Airport, Richfield, UT. This action corrects another geographic coordinate to the Class E Airspace at Richfield Municipal Airport, Richfield, UT. This action also corrects the effective date back to September 4, 2003.

Correction to Final Rule

Accordingly, pursuant to the authority delegated to me, the geographic coordinates for the Class E airspace area at Richfield Municipal Airport, Richfield, UT, as published in the Federal Register on August 12, 2003 (68 FR 47844), (Federal Register Document FAA-01-ANM-16; page 47844, column 3) are corrected as follows:

§ 71.1 [Corrected]

* * * * *

ANM UT E5 Richfield Municipal Airport, UT (Corrected)

[lat. 38°44′11″ N., long. 112°05′56″ W.]

That airspace extending upward from 700 feet above the surface of the earth within 7.5 mile radius of the Richfield Municipal Airport; and that airspace extending upward from 1,200 feet, above the surface of the earth bounded by a line beginning at lat. 39°24′30″ N., long. 112°27′41″ W.; to lat. 39°16′00″ N., long. 112°00′00″ W.; to lat. 39°42′00″ N., long. 110°54′00″ W.; to lat. 39°27′00″ N., long. 110°46′00″ W.; to lat. 39°03′00″ N., long. 111°30′00″ W.; to lat. 38°32′00″ N., long. 110°42′00″ W.; to lat. 38°20′00″ N., long. 110°48′00″ W.; to lat. 38°40′00″ N., long. 111°47′00″ W.; to 38°16′40″ N., long. 112°36′40″ W.; to lat. 38°29′00″ N., long. 112°53′00″ W.; to lat. 39°11′30″ N., long. 112°34′00″ W.; thence to the point of origin; excluding that airspace within Federal Airways and the Price, UT, Huntington, UT, Milford, UT, and Delta, UT Class E airspace.

The effective date on Airspace Docket No. 01-ANM-16 is hereby corrected to September 4, 2003.

Issued in Seattle, Washington, on September 11, 2003.
ViAnne Fowler,
Acting Manager, Air Traffic Division, Northwest Mountain Region.

[FR Doc. 03-24608 Filed 9-26-03; 8:45 am]

BILLING CODE 4910-13-M